DEPARTMENT OF TRANSPORTATION

Federal Aviation Administration

14 CFR Part 39

[Docket No. 2000-NE-09-AD; Amendment 39-14052; AD 2005-07-27]

RIN 2120-AA64

Airworthiness Directives; Aviointeriors S.p.A. Series 312 Seats

AGENCY: Federal Aviation Administration (FAA), DOT.

ACTION: Final rule.

SUMMARY: The FAA is superseding an existing airworthiness directive (AD), that is applicable to Aviointeriors S.p.A. (formerly ALVEN), series 312 seats. That AD requires initial and repetitive inspections of the seat central crossmember for cracks, and if necessary, replacing the crossmember with a new crossmember. This ad requires the same actions and adds other crossmember part numbers for inspection. In addition, this AD replaces the original design crossmembers with reinforced design crossmembers as optional terminating actions to the repetitive inspections. This AD results from reports of 88 cracked seat central crossmembers and 60 aisle side crossmembers, to date; and, from the introduction of reinforced optional seat crossmembers by the manufacturer. We are issuing this AD to prevent the loss of the structural integrity of the seat due to cracks in seat crossmembers, which could lead to passenger injury.

DATES: This AD becomes effective May 16, 2005. The Director of the Federal Register approved the incorporation by reference of certain publications listed in the regulations as of May 16, 2005.

ADDRESSES: Contact Aviointeriors S.p.A., Via Appia Km. 66.4—04013 Latina, Italy; telephone: 39-0773-6891; fax: 39-0773-631546, for the service information identified in this AD.

You may examine the AD docket at the FAA, New England Region, Office of the Regional Counsel, 12 New England Executive Park, Burlington, MA. You may examine the service information, at the FAA, New England Region, Office of the Regional Counsel, 12 New England Executive Park, Burlington, MA.

FOR FURTHER INFORMATION CONTACT: Jeffrey Lee, Aerospace Engineer, Boston Aircraft Certification Office, FAA, Engine and Propeller Directorate, 12 New England Executive Park, Burlington, MA 01803-5299; telephone: 781-238-7161; fax: 781-238-7170.

SUPPLEMENTARY INFORMATION: The FAA proposed to amend 14 CFR Part 39 with a proposed AD. The proposed AD applies to Aviointeriors S.p.A. (formerly ALVEN), series 312 seats. We published the proposed AD in the Federal Register on May 20, 2004 (69 FR 29109). That action proposed to require initial and repetitive inspections of seat central and aisle side crossmembers for cracks, and if necessary, replacing the crossmember with a new crossmember. That action also proposed to introduce replacing the original design crossmember with a reinforced crossmember as an optional terminating action to the repetitive inspections.

Examining the AD Docket

You may examine the AD Docket (including any comments and service information), by appointment, between 8 a.m. and 4:30 p.m., Monday through Friday, except Federal holidays. See ADDRESSES for the location.

Comments

We provided the public the opportunity to participate in the development of this AD. We received no comments on the proposal or on the determination of the cost to the public.

Conclusion

We have carefully reviewed the available data and determined that air safety and the public interest require adopting the AD as proposed.

Costs of Compliance

There are about 1,020 Aviointeriors S.p.A. (formerly ALVEN) series 312 seats installed on airplanes of U.S. registry that would be affected by this AD. We estimate that it would take about 0.5 work hours per seat to perform the inspections, and about one work hour per seat to perform the replacement of a crossmember. The average labor rate is $65 per work hour. Required parts will cost about $650.50 per seat. Based on these figures, we estimate the total cost of one inspection and total parts replacement to U.S. operators to be $729,810.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a summary of the costs to comply with this AD and placed it in the AD Docket. You may get a copy of this summary by sending a request to us at the address listed under ADDRESSES. Include “AD Docket No. 2000-NE-09-AD” in your request.

List of Subjects in 14 CFR Part 39

Air transportation, Aircraft, Aviation safety, Incorporation by reference, Safety.

Adoption of the Amendment

Accordingly, under the authority delegated to me by the Administrator, the Federal Aviation Administration amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-11889 (65 FR 58177, September 27, 2000) and by adding a new airworthiness directive, Amendment 39-14052, to read as follows:

2005-07-27 Aviointeriors S.p.A. (formerly ALVEN): Amendment 39-14052. Docket No. 2000-NE-09-AD.

Effective Date

(a) This AD becomes effective May 16, 2005.

Affected ADs

(b) This AD supersedes AD 2000-18-04.

Applicability

(c) This AD applies to Aviointeriors S.p.A. (formerly ALVEN), model 312 seats. These seats are installed in, but not limited to, Fokker Model F27 Mark 050, Mark 500, and Mark 600 airplanes.

Unsafe Condition

(d) This AD results from reports of 88 cracked seat central crossmembers and 60 aisle side crossmembers, to date; and, from the introduction of reinforced optional seat crossmembers by the manufacturer. The actions specified in this AD are intended to prevent the loss of the structural integrity of the seat due to cracks in seat crossmembers, which could lead to passenger injury.

Compliance

(e) You are responsible for having the actions required by this AD performed within the compliance times specified unless the actions have already been done.

Initial Visual Inspection

(f) Perform an initial visual inspection of the crossmember for cracks, within 12,000 hours time-in-service (TIS); or within 180 days after the effective date of this AD if the crossmember has more than 12,000 hours TIS, as follows:

(1) Inspect seat central crossmembers, part number (P/N) DM03437-1, using Section 2. of Inspection Procedure of Aviointeriors Service Bulletin (SB) No. 312/912-01, Revision 2, dated August 1, 2000.

(2) Replace any cracked central crossmember with a new crossmember of the same P/N. Use Section 3. Crossmember Replacement Procedure, Steps 3.1 though 3.10 of Aviointeriors SB No. 312/912-01, Revision 2, dated August 1, 2000.

(3) Inspect seat aisle side crossmembers, P/Ns DM03435-1, DM03435-2, and DM03437-1 (Disabled People seat application), using Section 2. of Inspection Procedure of Aviointeriors SB No. 312/912-02, Revision 1, dated August 1, 2000.

(4) Replace any cracked aisle side crossmember with a new crossmember of the same P/N. Use Section 3. Crossmember Replacement Procedure, Steps 3.1 though 3.8 of Aviointeriors SB No. 312/912-02, Revision 1, dated August 1, 2000.

Repetitive Visual Inspections

(g) Perform repetitive visual inspections of crossmembers, P/N DM03435-1, DM03435-2, and DM03437-1, for cracks, within 650 hours TIS after the last inspection. Use paragraphs (f)(1) through (f)(4) of this AD to inspect and disposition crossmembers.

Optional Terminating Action

(h) As optional terminating actions to the repetitive inspections required by this AD, do the following:

(1) Replace seat central crossmembers, P/N DM03437-1, with reinforced crossmembers, P/N F11541300000. Use Section 2. Crossmember Replacement Procedure, Steps 2.1 through 2.11 of Aviointeriors SB No. 312/912-03, dated August 1, 2000.

(2) Replace seat aisle side crossmembers, P/N DM03435-1, DM03435-2, and DM03437-1 (Disabled People seat application), with reinforced crossmembers, P/N F11555400000, F11555500000, and F11541300000, respectively. Use Section 2. Crossmember Replacement Procedure, Steps 2.1 through 2.11 of Aviointeriors SB No. 312/912-04, dated August 1, 2000.

Alternative Methods of Compliance

(i) The Manager, Boston Aircraft Certification Office, has the authority to approve alternative methods of compliance for this AD if requested using the procedures found in 14 CFR 39.19.

Material Incorporated by Reference

(j) You must use the Aviointeriors service information specified in Table 1 of this AD to perform the inspections and replacements required by this AD. The Director of the Federal Register approved the incorporation by reference of the documents in Table 1 of this AD in accordance with 5 U.S.C. 552(a) and 1 CFR part 51. Contact Aviointeriors S.p.A., Via Appia Km. 66.4—04013 Latina, Italy; telephone: 39-0773-6891; fax: 39-0773-631546, for a copy of this service information. You can review copies at the FAA, New England Region, Office of the Regional Counsel, 12 New England Executive Park, Burlington, MA, or at the National Archives and Records Administration (NARA). For information on the availability of this material at NARA, call 202-741-6030, or go to: http://www.archives.gov/federal_register/code_of_federal_regulations/ibr_locations.html. Table 1 follows:

Table 1.—Incorporation By Reference
Aviointeriors service bulletin No. | Page | Revision | Date
312/912-01, Total Pages: 8 | ALL | 2 | August 1, 2000.
312/912-02, Total Pages: 9 | ALL | 1 | August 1, 2000.
312/912-03, Total Pages: 8 | ALL | Original | August 1, 2000.
312/912-04, Total Pages: 8 | ALL | Original | August 1, 2000.

Related Information

(k) Ente Nazionale per l'Aviazione Civile airworthiness directives 2000-511 and 2000-512, both dated November 7, 2000, also address the subject of this AD.

Issued in Burlington, Massachusetts, on April 1, 2005.
Diane Cook,
Acting Manager, Engine and Propeller Directorate, Aircraft Certification Service.

[FR Doc. 05-6912 Filed 4-8-05; 8:45 am]

BILLING CODE 4910-13-P